DEPARTMENT OF TRANSPORTATION

Federal Transit Administration

49 CFR Part 611

[Docket No. FTA-2010-0009]

RIN 2132-AB02

Major Capital Investment Projects

AGENCY: Federal Transit Administration (FTA), DOT.

ACTION: Public meetings on ANPRM.

SUMMARY: This document announces the date, time, and location of an additional outreach session concerning the Advance Notice of Proposed Rulemaking (ANPRM) for FTA's New Starts and Small Starts programs. Presentations delivered at the meeting will describe the provisions of the ANPRM issued by the Federal Transit Administration (FTA). Further outreach sessions, if scheduled, will be announced in a subsequent Federal Register notice.

DATES: See SUPPLEMENTARY INFORMATION section for the meeting date.

ADDRESSES: See SUPPLEMENTARY INFORMATION section for the meeting location.

FOR FURTHER INFORMATION CONTACT: Elizabeth Day, Office of Planning and Environment, (202) 366-5159; for questions of a legal nature, Christopher Van Wyk, Office of Chief Counsel, (202) 366-1733. FTA is located at 1200 New Jersey Avenue, SE., Washington, DC 20590. Office hours are from 9 a.m. to 5:30 p.m., EST, Monday through Friday, except Federal holidays.

SUPPLEMENTARY INFORMATION: FTA announced the time and location of its first two outreach meetings to discuss the ANPRM published on June 3, 2010 (75 FR 31383), noting that additional meetings would be announced in subsequent Federal Register notices. The meeting listed below is an additional outreach session that will provide a forum for FTA staff to make oral presentations regarding the ANPRM and provides an opportunity for attendees to ask questions. All outreach sessions are intended to encourage interested parties and stakeholders to submit their comments directly to the official docket for the ANPRM according to the instructions found in the June 3, 2010 Federal Register notice for the ANPRM.

I. Meeting

Information on the public outreach session meeting date and address follows: Monday, July 26, 2010, 5 p.m.-7 p.m., EST, 270 West 43rd Street, New York City 10036, NY (Minetta Room of the Westin Times Square Hotel), concurrent with the “2010 Sustainability and Public Transportation Workshop” sponsored by the American Public Transportation Association.

II. Comment Format

Meeting attendees will have an opportunity to pose questions to FTA staff and to the group as a whole. It is the responsibility of individuals who wish for their comments to become part of the official public record to submit their comments directly to the official docket for the ANPRM.

III. Registration

Registration is not required in order to attend the outreach session.

IV. Special Accommodations

All locations are ADA-accessible. Individuals attending a meeting who are hearing or visually impaired and have special requirements, or requiring special assistance, may obtain this by calling Elizabeth Day at (202) 366-5159.

Issued in Washington, DC, on July 2, 2010.
Dorval R. Carter, Jr.,
Chief Counsel.

[FR Doc. 2010-16732 Filed 7-8-10; 8:45 am]

BILLING CODE 4910-57-P